DEPARTMENT OF COMMERCE

Foreign-Trade Zones Board

[Docket 44-2003]

Foreign-Trade Zone 40—Cleveland, Ohio, Area; Application for Expansion

An application has been submitted to the Foreign-Trade Zones (FTZ) Board (the Board), by the Cleveland-Cuyahoga County Port Authority, grantee of Foreign-Trade Zone 40, requesting authority to expand its zone in the Cleveland, Ohio, area, within the Cleveland Customs port of entry. The application was submitted pursuant to the provisions of the Foreign-Trade Zones Act, as amended (19 U.S.C. 81a-81u), and the regulations of the Board (15 CFR part 400). It was formally filed on September 10, 2003.

FTZ 40 was approved on September 29, 1978 (Board Order 135, 43 FR 46886, 10/11/78) and expanded in June 1982 (Board Order 194, 47 FR 27579, 6/25/82); April 1992 (Board Order 574, 57 FR 13694, 4/17/92); February 1997 (Board Order 870, 62 FR 7750, 2/20/97; June 1999 (Board Order 1040, 64 FR 33242, 6/22/99); April 2002 (Board Order 1224, 67 FR 20087, 4/15/02); and, August 2003 (Board Order 1289, 68 FR 52384, 9/3/03; Board Order 1290, 68 FR 52384, 9/3/03; and, Board Order 1295, 68 FR 52383, 9/3/03).

The general-purpose zone project currently consists of the following sites in the Cleveland, Ohio, area: Site 1 (1,339 acres)—Port of Cleveland complex, Cleveland Bulk Terminal and Tow Path Valley Business Park, Cleveland; Site 2 (175 acres)—the IX Center (formerly the “Cleveland Tank Plant”), in Brook Park, adjacent to the Cleveland Hopkins International Airport; Site 3 (1,942acres)—Cleveland Hopkins International Airport complex and the adjacent Snow Road Industrial Park, Brook Park; Site 4 (450 acres)—Burke Lakefront Airport, 1501 North Marginal Road, Cleveland; Site 5 (298 acres)—Emerald Valley Business Park, Cochran Road and Beaver Meadow Parkway, Glenwillow; Site 6 (30 acres)—Collinwood site, South Waterloo (South Marginal) Road and East 152nd Street, Cleveland; Site 7 (47 acres)—Water Tower Industrial Park, Coit Road and East 140th Street, Cleveland; Site 8 (174 acres)—Strongsville Industrial Park, Royalton Road (State Route 82), Strongsville; Site 9 (13 acres)—East 40th Street between Kelley & Perkins Avenues (3830 Kelley Avenue), Cleveland; and, Site 10 (15 acres)—Frane Industrial Park, Forman Road, Ashtabula. An application is pending with the FTZ Board to expand FTZ 40 to include a site at the Harbour Point Business Park in Vermilion, Ohio (Docket 33-2003).

The applicant is now requesting authority to expand existing Site 3 to include the Brook Park Road Industrial Park (322 acres), 17601 Brook Park Road, Brook Park (Cuyahoga County). The site is immediately adjacent to the Cleveland Hopkins International Airport and is being developed as an industrial park. It is owned by the Ford Motor Company. The site will provide public warehousing and distribution services to area businesses. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building, Suite 4100W, 1099 14th Street, NW., Washington, DC 20005.

2. Submissions via the U.S. Postal Service: Foreign-Trade Zones Board, U.S. Department of Commerce, FCB, Suite 4100W, 1401 Constitution Avenue, NW., Washington, DC 20230.

The closing period for their receipt is November 17, 2003. Rebuttal comments in response to material submitted during the foregoing period may be submitted during the subsequent 15-day period (to December 1, 2003).

A copy of the application and accompanying exhibits will be available during this time for public inspection at address Number 1 listed above, and at the U.S. Department of Commerce Export Assistance Center, 600 Superior Avenue East, Suite 700, Cleveland, OH 44114.

Dated: September 10, 2003.
Dennis Puccinelli,
Executive Secretary.

[FR Doc. 03-23622 Filed 9-15-03; 8:45 am]

BILLING CODE 3510-DS-P